DEPARTMENT OF ENERGY

Federal Energy Regulatory Commission

[Docket No. CP00-40-008]

Florida Gas Transmission Company; Notice of Meeting

July 22, 2002.

On August 6, 2002, Commission staff will attend a meeting sponsored by Representative Michael Bilirakis of Florida to address issues regarding Florida Gas Transmission Company's planned Compressor Station 27 near Thonotosassa, Florida.

The meeting will take place at 5:30 p.m. at the Sterling Heights Recreation Center, 11706 Thonotosassa Road, Thonotosassa, FL 33592. Anyone interested in attending the meeting may contact the Commission's Office of External Affairs, toll free at 1-866-208-FERC.

Magalie R. Salas,
Secretary.

[FR Doc. 02-18984 Filed 7-25-02; 8:45 am]

BILLING CODE 6717-01-P